DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing updates to the identifying information of one or more persons currently included in OFAC's Specially Designated Nationals and Blocked Persons List (SDN List).

DATES: This action was issued on October 30, 2025. See SUPPLEMENTARY INFORMATION section for effective dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Actions

On October 30, 2025, OFAC updated the entry on the SDN List for the following persons, whose property and interests in property subject to U.S. jurisdiction continue to be blocked under the relevant sanctions authorities listed below.

Individuals

BILLING CODE 4810-AL-P

2. YEO, Sin Huat Alan, Singapore; DOB 27 Sep 1972; POB Singapore; nationality Singapore; Gender Male; Passport 7234580J (Singapore); alt. Passport E5665088N (China) (individual) [TCO] (Linked To: CHEN, Zhi).

The listing for the individual now appears as follows:

YEO, Sin Huat Alan, Singapore; DOB 27 Sep 1972; POB Singapore; nationality Singapore; Gender Male; Passport 7234580J (Singapore); alt. Passport E5665088N (Singapore) (individual) [TCO] (Linked To: CHEN, Zhi).

Entity

1. PRINCE CLUB MANAGEMENT CAMBODIA CO. LTD., Phnom Penh, Colombia; Tax ID No. K008-901701158 (Cambodia) [TCO] (Linked To: CHEN, Zhi).

The listing for the entity now appears as follows:

PRINCE CLUB MANAGEMENT CAMBODIA CO. LTD., Phnom Penh, Cambodia; Tax ID No. K008-901701158 (Cambodia) [TCO] (Linked To: CHEN, Zhi).

Dated: October 30, 2025.
Bradley T. Smith,
Director, Office of Foreign Assets Control.

[FR Doc. 2025-20241 Filed 11-18-25; 8:45 am]

BILLING CODE 4810-AL-C